DEPARTMENT OF COMMERCE

International Trade Administration

[A-489-807]

Certain Steel Concrete Reinforcing Bars From Turkey; Final Results of Antidumping Duty Administrative Review and Determination To Revoke in Part

AGENCY: Import Administration, International Trade Administration, Department of Commerce.

SUMMARY: On May 5, 2008, the Department of Commerce (the Department) published the preliminary results of the administrative review of the antidumping duty order on certain steel concrete reinforcing bars (rebar) from Turkey. This review covers four producers/exporters of the subject merchandise to the United States. The period of review (POR) is April 1, 2006, through March 31, 2007.

Based on our analysis of the comments received and on our verification findings, we have made certain changes in the margin calculations. Therefore, the final results differ from the preliminary results. The final weighted-average dumping margins for the reviewed firms are listed below in the section entitled “Final Results of Review.”

Finally, we have determined to revoke the antidumping duty order with respect to Turkish rebar produced and exported by Habas Sinai ve Tibbi Gazlar Istihsal Endustrisi A.S. (Habas).

DATES: Effective Date: November 7, 2008.

FOR FURTHER INFORMATION CONTACT: Elizabeth Eastwood, AD/CVD Operations, Office 2, Import Administration, International Trade Administration, U.S. Department of Commerce, 14th Street and Constitution Avenue, NW., Washington, DC, 20230; telephone (202) 482-3874.

SUPPLEMENTARY INFORMATION:

Background

The administrative review covers the following four producers/exporters: Ekinciler Demir ve Celik Sanayi A.S./Ekinciler Dis Ticaret A.S. (Ekinciler); Habas; Izmir Demir Celik Sanayi A.S. (IDC); and Nursan Celik Sanayi ve Haddecilik, A.S./Nursan Dis Ticaret A.S (Nursan).

On May 5, 2008, the Department published in the Federal Register the preliminary results of the 2006-2007 administrative review of the antidumping duty order on rebar from Turkey. See Certain Steel Concrete Reinforcing Bars from Turkey; Preliminary Results of Antidumping Duty Administrative Review and Notice of Intent to Revoke in Part, 73 FR 24535 (May 5, 2008) (Preliminary Results). Also in May 2008, the Department verified the sales responses of Ekinciler and Habas.

We invited parties to comment on our preliminary results. In July 2008, we received case and rebuttal briefs from the domestic industry, Ekinciler, and Habas. The Department convened a hearing in this review on August 26, 2008.

The Department has conducted this administrative review in accordance with section 751 of the Tariff Act of 1930, as amended (the Act).

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable under subheadings 7213.10.000 and 7214.20.000 of the Harmonized Tariff Schedule of the United States (HTSUS). The HTSUS subheadings are provided for convenience and customs purposes. The written description of the scope of this order is dispositive.

Period of Review

The POR is April 1, 2006, through March 31, 2007.

Determination To Revoke Order, in Part

The Department may revoke, in whole or in part, an antidumping duty order upon completion of a review under section 751 of the Act. While Congress has not specified the procedures that the Department must follow in revoking an order, the Department has developed a procedure for revocation that is described in 19 CFR 351.222. This regulation requires, inter alia, that a company requesting revocation must submit the following: (1) A certification that the company has sold the subject merchandise at not less than normal value (NV) in the current review period and that the company will not sell subject merchandise at less than NV in the future; (2) a certification that the company sold commercial quantities of the subject merchandise to the United States in each of the three years forming the basis of the request; and (3) an agreement to immediate reinstatement of the order if the Department concludes that the company, subsequent to the revocation, sold subject merchandise at less than NV. See 19 CFR 351.222(e)(1). Upon receipt of such a request, the Department will consider: (1) Whether the company in question has sold subject merchandise at not less than NV for a period of at least three consecutive years; (2) whether the company has agreed in writing to its immediate reinstatement in the order, as long as any exporter or producer is subject to the order, if the Department concludes that the company, subsequent to the revocation, sold the subject merchandise at less than NV; and (3) whether the continued application of the antidumping duty order is otherwise necessary to offset dumping. See 19 CFR 351.222(b)(2)(i).

On April 27 and 30, 2007, respectively, Ekinciler and Habas requested revocation of the antidumping duty order with respect to their sales of subject merchandise, pursuant to 19 CFR 351.222(b). These requests were accompanied by certifications that: (1) Ekinciler and Habas sold the subject merchandise at not less than NV during the current POR and will not sell the merchandise at less than NV in the future; and (2) they sold subject merchandise to the United States in commercial quantities for a period of at least three consecutive years. Ekinciler and Habas also agreed to immediate reinstatement of the antidumping duty order, as long as any exporter or producer is subject to the order, if the Department concludes that, subsequent to the revocation, they sold the subject merchandise at less than NV. Our analysis of each company's revocation request is presented below.

1. Ekinciler

Regarding Ekinciler, we do not find that its request for revocation meets all of the criteria under 19 CFR 351.222(b). Specifically, we find that Ekinciler has sold rebar at less than NV in the two previous administrative reviews in which it was involved (i.e., its dumping margins were above de minimis). See Certain Steel Concrete Reinforcing Bars From Turkey; Final Results of Antidumping Duty Administrative Review and New Shipper Review and Determination to Revoke in Part, 72 FR 62630 (Nov. 6, 2007) (2005-2006 Final Results) and Certain Steel Concrete Reinforcing Bars From Turkey; Final Results and Rescission of Antidumping Duty Administrative Review in Part, 71 FR 65082 (Nov. 7, 2006) (2004-2005 Final Results), unchanged in Notice of Amended Final Results and Rescission of Antidumping Duty Administrative Review in Part: Certain Steel Concrete Reinforcing Bars From Turkey, 71 FR 75711 (Dec. 18, 2006) (2004-2005 Amended Final Results).

Ekinciler contends that it is entitled to revocation in this segment of the proceeding, based on its claim that it anticipates that it will receive a zero or de minimis margin for the prior reviews, following completion of the court's review of Ekinciler's appeal of the final results. However, it is not the Department's policy to take pending court appeals into account when determining whether revocation of the merchandise produced and exported by a particular company from an existing antidumping duty order is warranted. See, e.g., Certain Fresh Cut Flowers From Colombia; Final Results of Antidumping Duty Administrative Review, and Notice of Revocation (in Part), 59 FR 15159, 15166 (Mar. 31, 1994); Color Television Receivers from the Republic of Korea; Final Results of Antidumping Duty Administrative Reviews, 61 FR 4408, 4414 (Feb. 6, 1996). While we acknowledge that the Department's determinations in the two prior segments of this proceeding are currently in litigation, there is no final and conclusive judgment from any court supporting Ekinciler's arguments. In fact, the Court of International Trade (CIT) affirmed the Department's analysis in the 2004-2005 review which resulted in a dumping margin above de minimis for Ekinciler. See Ekinciler Demir v. United States, 32 Slip Op. 2008-34 (CIT, March 20, 2008) (currently on appeal). The CIT's decision in that case supports our conclusion that Ekinciler continued to dump subject merchandise during the last three years, and Ekinciler has provided no information on the record to undermine that conclusion. Therefore, we determine that Ekinciler does not qualify for revocation of the order on rebar pursuant to 19 CFR 351.222(b)(2), and that the order with respect to merchandise produced and exported by Ekinciler should not be revoked.

2. Habas

We have determined that the request from Habas meets all of the criteria under 19 CFR 351.222. With regard to the criteria of subsection 19 CFR 351.222(b)(2), our final margin calculations show that Habas sold rebar at not less than NV during the current review period. In addition, Habas sold rebar at not less than NV in the two previous administrative reviews in which it was involved (i.e., its dumping margins were zero or de minimis). See 2005-2006 Final Results, and 2004-2005 Final Results, unchanged in 2004-2005 Amended Final Results.

Based on our examination of the sales data submitted by Habas, we determine that it sold the subject merchandise in the United States in commercial quantities in each of the consecutive years cited by it to support its request for revocation. See the April 29, 2008, Memorandum to the File from Irina Itkin entitled, “Analysis of Habas Sinai ve Tibbi Gazlar Istihsal Endustrisi A.S.'s Commercial Quantities for Request for Revocation.” Thus, we find that Habas had zero or de minimis dumping margins for its last three administrative reviews and sold subject merchandise in commercial quantities in each of these years. Also, we find that application of the antidumping duty order to Habas is no longer warranted for the following reasons: (1) Habas had zero or de minimis margins for a period of at least three consecutive years; (2) Habas has agreed to immediate reinstatement of the order if the Department finds that it has resumed making sales at less than NV; and (3) the continued application of the order is not otherwise necessary to offset dumping. Therefore, we find that Habas qualifies for revocation of the antidumping duty order on rebar under 19 CFR 351.222(b)(2). Accordingly, we are revoking the order with respect to subject merchandise produced and exported by Habas. For further discussion, see the Issues and Decision Memorandum (the Decision Memo) at Comment 1.

Effective Date of Revocation

The revocation of Habas applies to all entries of subject merchandise that are produced and exported by Habas, and are entered, or withdrawn from warehouse, for consumption on or after April 1, 2007. The Department will order the suspension of liquidation ended for all such entries and will instruct U.S. Customer and Border Protection (CBP) to release any cash deposits or bonds. The Department will further instruct CBP to refund with interest any cash deposits on entries made on or after April 1, 2007.

Cost of Production

As discussed in the Preliminary Results, we conducted an investigation to determine whether Ekinciler and Habas made home market sales of the foreign like product during the POR at prices below their costs of production (COP) within the meaning of section 773(b)(1) of the Act. We performed the cost test for these final results following the same methodology as in the Preliminary Results, except as discussed in the Decision Memo. We found 20 percent or more of each respondent's sales of a given product during the reporting period were at prices less than the weighted average COP for this period. Thus, we determined that these below-cost sales were made in “substantial quantities” within an extended period of time and at prices which did not permit the recovery of all costs within a reasonable period of time in the normal course of trade. See sections 773(b)(2)(B)-(D) of the Act.

Therefore, for purposes of these final results, we found that Ekinciler and Habas made below-cost sales not in the ordinary course of trade. Consequently, we disregarded these sales for each respondent and used the remaining sales as the basis for determining NV pursuant to section 773(b)(1) of the Act.

Analysis of Comments Received

The issues raised in the case briefs by parties to this administrative review, and to which we have responded, are listed in the Appendix to this notice and addressed in the Decision Memo, which is adopted by this notice. Parties can find a complete discussion of all issues raised in this review and the corresponding recommendations in this public memorandum, which is on file in the Central Records Unit, room 1117, of the main Department building.

In addition, a complete version of the Decision Memo can be accessed directly on the Web at http://ia.ita.doc.gov/frn/. The paper copy and electronic version of the Decision Memo are identical in content.

Changes Since the Preliminary Results

Based on our analysis findings at verification, we have made certain changes in the margin calculations. Specifically, we based our margin calculations for both respondents on sales databases submitted at our request after verification, and we revised the 2005/2006 depreciation expense calculation for Ekinciler related to certain capitalized assets. These changes are discussed in detail in the relevant sections of the Decision Memo.

Final Results of Review

We determine that the following weighted-average margin percentages exist for the period April 1, 2006, through March 31, 2007:

Manufacturer/Producer/Exporter | Margin percentage
Ekinciler Demir ve Celik Sanayi A.S./Ekinciler Dis Ticaret A.S | 2.75
Habas Sinai ve Tibbi Gazlar Istithsal Endustrisi A.S | 0.00

Review-Specific Average Rate Applicable to the Following Companies:

Manufacturer/Producer/Exporter | Margin percentage
Izmir Demir Celik Sanayi A.S | 2.75
Nursan Celik Sanayi ve Haddecilik, A.S./Nursan Dis Ticaret A.S | 2.75

Assessment

The Department shall determine, and CBP shall assess, antidumping duties on all appropriate entries. Pursuant to 19 CFR 351.212(b)(1), for all sales made by Ekinciler, because we have the reported entered value of the U.S. sales, we have calculated importer-specific assessment rates based on the ratio of the total amount of antidumping duties calculated for the examined sales to the total entered value of those sales.

For the companies which were not selected for individual review, we have calculated an assessment rate based on the weighted average of the cash deposit rates calculated for the companies selected for individual review excluding any which are de minimis or determined entirely on AFA.

Pursuant to 19 CFR 351.106(c)(2), we will instruct CBP to liquidate without regard to antidumping duties any entries for which the assessment rate is de minimis (i.e., less than 0.50 percent). The Department intends to issue assessment instructions to CBP 15 days after the date of publication of these final results of review.

Because we have revoked the order with respect to subject merchandise produced and exported by Habas, we will instruct CBP to terminate the suspension of liquidation for exports of such merchandise entered, or withdrawn from warehouse, for consumption on or after April 1, 2007, and to refund all cash deposits collected.

The Department clarified its “automatic assessment” regulation on May 6, 2003. See Antidumping and Countervailing Duty Proceedings: Assessment of Antidumping Duties, 68 FR 23954 (May 6, 2003). This clarification will apply to entries of subject merchandise during the POR produced by companies included in these final results of review for which the reviewed companies did not know their merchandise was destined for the United States. In such instances, we will instruct CBP to liquidate unreviewed entries at the all-others rate if there is no rate for the intermediate company(ies) involved in the transaction.

Cash Deposit Requirements

Further, the following deposit requirements will be effective for all shipments of rebar from Turkey (except shipments from Habas, as noted above) entered, or withdrawn from warehouse, for consumption on or after the publication date of the final results of this administrative review, as provided for by section 751(a)(2)(C) of the Act: (1) The cash deposit rates for the reviewed companies will be the rates shown above, except if the rate is less than 0.50 percent, de minimis within the meaning of 19 CFR 351.106(c)(1), the cash deposit will be zero; (2) for previously investigated companies not listed above, the cash deposit rate will continue to be the company-specific rate published for the most recent period; (3) if the exporter is not a firm covered in this review, or the less-than-fair-value (LTFV) investigation, but the manufacturer is, the cash deposit rate will be the rate established for the most recent period for the manufacturer of the merchandise; and (4) the cash deposit rate for all other manufacturers or exporters will continue to be 16.06 percent, the all-others rate established in the LTFV investigation. These deposit requirements, when imposed, shall remain in effect until further notice.

Notification to Importers

This notice serves as a preliminary reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these results of review in accordance with sections 751(a)(1), 751(d) and 777(i)(1) of the Act and 19 CFR 351.221(b)(5).

Dated: November 3, 2008.
David M. Spooner,
Assistant Secretary for Import Administration.

Appendix—Issues in Decision Memorandum

Company-Specific Issues

1. Unreported Home Market Sales for Habas.

2. Cost Calculation Period for Ekinciler.

3. Depreciation Expenses for Ekinciler.

[FR Doc. E8-26623 Filed 11-6-08; 8:45 am]

BILLING CODE 3510-DS-P